DEPARTMENT OF ENERGY

Federal Energy Regulatory Commission

[Project No. 2852-015]

New York State Electric & Gas Corporation; Notice of Teleconference

April 9, 2003.

a. Date and Time of Teleconference: May 7, 2003, 10 a.m. to 1 p.m.

b. FERC Contact: Patricia Leppert at (202) 502-6034; patricia.leppert@ferc.gov or John Costello at (202) 502-6119; john.costello@ferc.gov.

c. Purpose of the Teleconference: To clarify the January 22, 2003, letter from New York State Department of Environmental Conservation which provided comments on the Environmental Assessment for the Keuka Hydroelectric Project issued December 12, 2002. In addition, to clarify the January 6, 2003, letter from the New York State Office of Parks, Recreation, and Historic Preservation which provided comments on the draft Programmatic Agreement proposed by the Commission for the Keuka Project.

d. Proposed Agenda:

(1) Introduction Recognition of Participants Teleconference Objectives

(2) Clarification of the comments (a list of questions will be provided to the participants prior to the meeting)

(3) Summary of Meeting

(4) Follow-up Actions

e. To access the teleconference:

(1) Call 1-800-369-1828

(2) The Leader name is “John Costello”

(3) The passcode is “Costello”

Magalie R. Salas,
Secretary.

[FR Doc. 03-9242 Filed 4-15-03; 8:45 am]

BILLING CODE 6717-01-P